DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Protocols for the Cross-Site Evaluation of the State Incentive Grant (SIG) Program (OMB No. 0930-0226, Revision)—SAMHSA's Center for Substance Abuse Prevention (CSAP) is charged with evaluating the State Incentive Cooperative Agreements for Community-Based Action, or State Incentive Grant (SIG) Program. States receiving SIG funds are to: (1) Coordinate, leverage and/or redirect, as appropriate, all substance abuse prevention resources within the State that are directed at communities, families, schools, and workplaces, and (2) develop a revitalized, comprehensive State-wide prevention strategy aimed at reducing drug use by youth. The ultimate aim of the SIG Program is to prevent substance abuse among youths, ages 12 to 17, and also young adults, age 18-25. To date, the 41 States, along with the District of Columbia, Puerto Rico, and the Virgin Islands, that have received SIG grants are required to implement at the community level a range of substance abuse, community-based prevention programs and strategies, at least half of which meet the specifications of sound scientific research findings, such as the National Registry of Effective Programs. CSAP awarded about $3 million per year for three years to each of five States in FY 1997 (Cohort I), fourteen States in FY 1998 (Cohort II), one State and the District of Columbia in FY 1999 (Cohort III), seven states in FY 2000 (Cohort IV), eight states and Puerto Rico in FY 2001 (Cohort V), four states in FY 2002 (Cohort VI) and two states and the Virgin Islands in FY 2003 (Cohort VII).

CSAP is conducting a national, cross-site evaluation of the SIG Program, consisting of a process and an outcome evaluation. The outcome evaluation will address two questions: (1) “Has the SIG Program had an impact on youth substance abuse?” and (2) “How do SIG States differ in their impact on youth substance abuse?” These questions will be addressed primarily using the CSAP core measures, a data collection activity already approved by the Office or Management and Budget (OMB) under control number 0930-0230. In addition to the core measures, data already being collected by SAMHSA's National Survey on Drug Use and Health (NSDUH; OMB No. 0930-0110) will be examined.

The process evaluation will focus on three questions: (1) “Did States attain the SIG Program's two main goals of coordinated funding streams and revitalized comprehensive prevention strategies and how were these goals attained?” (2) “What other substance abuse prevention programming has the State implemented?” and (3) “Did SIGs meet the criterion of supporting science-based programs fifty percent of the time, and what array of prevention activities were supported?”

Three instruments are needed to collect process information about SIG activities at the State, community, and program levels: (1) A Final Report Protocol; (2) a SIG Community Site Visit Protocol; and (3) a SIG Community Telephone Interview Protocol. The Final Report Protocol will be used to collect data across the spectrum of activities associated with the SIG effort in the State. The areas captured by the Final Report Protocol are outlined in the Conceptual Framework utilized by the SIG States and cross-site evaluation team, and include the following topics: GOAMS (goals, objectives, accomplishments, and milestones), contextual conditions, SIG mobilization, system characteristics and dynamics, collaborative strategies or activities, immediate outcomes, systems change, sub-recipient characteristics and dynamics, sub-recipient planning and science-based prevention interventions, sub-recipient immediate local outcomes, long-term outcomes, possible rival explanations, and learned lessons.

The community site visits will be conducted in randomly selected sample of sub-recipient communities in Cohorts I-III that have submitted pre-post matched outcome data that includes comparison data. The SIG Community Site Visit Protocol will collect data at the sub-recipient and program levels on the following topics: degree of monitoring by the State, selection processes of interventions, evaluation strategies, technical assistance provided by the State, level of guidance by the State in program selection, and evaluation.

The sampling frame for the telephone interviews will include all active sub-recipients in Cohorts I-V that are collecting outcome data at the intervention level. Sub-recipient communities selected for site visits will be excluded from the sampling frame. The SIG Community Telephone Interview Protocol will collect data on the processes for selection and implementation of interventions and the approach to evaluation of these interventions.

OMB approval has been received for the process evaluation in the first four cohorts (N=28 states) and for states to submit previously collected outcome data for secondary analysis. This request will add the more recently funded SIG jurisdictions (Cohorts V-VII) to the process evaluation (N=16 states) and address the burden on states (Cohorts VI-VII) to submit previously collected outcome data (N=23 states). Included in this request are revised burden estimates based on actual experience, and a request for an extension of the period of OMB approval for the SIG cross-site evaluation by three years.

Estimated annual burden is as follows:

Instrument | Number of respondents | Responses per respondent | Hours per response | Annual burden hours
SIG Final Report Protocol:
Evaluators | 16 | 1 | 200 | 3,200
Project Directors | 16 | 1 | 40 | 640
Key Informants | 32 | 1 | 4 | 128
SIG Community Site Visits in 8 States:
State contacts | 8 | 1 | 1 | 8
Subrecipient contacts | 10 | 1 | 1 | 10
Site visit interviews (10 per site) | 80 | 1 | 1 | 80
SIG Community Telephone Interviews:
Telephone Interviews | 81 | 1 | 2 | 162
Community outcome data (23 States) | 23 | 2 | 8 | 368
TOTAL |  |  |  | 4,596

Send comments to Nancy Pearce, SAMHSA Reports Clearance Officer, Room 16-105, Parklawn Building, 5600 Fishers Lane, Rockville, MD 20857. Written comments should be received within 60 days of this notice.

Dated: March 23, 2004.
Anna Marsh,
Executive Officer, SAMHSA.

[FR Doc. 04-6984 Filed 3-29-04; 8:45 am]

BILLING CODE 4162-20-P